DEPARTMENT OF JUSTICE

Antitrust Division

Notice Pursuant to the National Cooperative Research and Production Act of 1993—The Open Group, L.L.C.

Notice is hereby given that, on November 19, 2014, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, Aviation Industry Corporation of China Information Technology—AVICIT, Beijing, PEOPLE'S REPUBLIC OF CHINA; Camber Corporation, Huntsville, AL; Creative Electronic Systems—CAL, Inc., Albuquerque, NM; Edifit Limited, Coventry, UNITED KINGDOM; Esri South Africa (Pty) Ltd., Johannesburg, SOUTH AFRICA; Eturnti Enterprise Consulting Pvt Ltd., Bangalore, INDIA; Gramma Tech, Inc., Ithaca, NY; Inteca sp. z.o.o., Wroclaw, POLAND; Jiangxi University of Finance and Economics, Nanchang, PEOPLE'S REPUBLIC OF CHINA; Learning Tree International, Inc., Reston, VA; Logicalis SMC, Rijswijk, THE NETHERLANDS; Management Edge Limited, Abuja, NIGERIA; Munich RE, Munich, GERMANY; Pan Asia Training PTE Ltd., Singapore, SINGAPORE; Quinsigamond Community College, Worcester, MA; Simplilearn Solutions Private Limited, Bangalore, INDIA; UMBRiO B.V., Rijswijk, THE NETHERLANDS; and University of South Florida, St. Petersburg, FL, have been added as parties to this venture.

Also, Aoyama Gakuin University, Tokyo, JAPAN; ATK Defense Electronics Systems, Woodland Hills, CA; Nedbank, Johannesburg, SOUTH AFRICA; Sopra Group, Edinburgh, UNITED KINGDOM; Support Systems Associates, Inc., Melbourne, FL; Sytecso S.A. de C.V., Monterrey, MEXICO; Telekom SA Ltd., Pretoria, SOUTH AFRICA; and Tresys Technology LLC, Columbia, MD, have withdrawn as parties to this venture.

In addition, Lynuxworks, Inc. has changed its name to Lynx Software Techonologies, Inc., San Jose, CA.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on September 8, 2014. A notice was published in the Federal Register pursuant to Section 6(b) of the Act on September 29, 2014 (79 FR 58383).

Patricia A. Brink,
Director of Civil Enforcement, Antitrust Division.

[FR Doc. 2014-29412 Filed 12-15-14; 8:45 am]

BILLING CODE P